DEPARTMENT OF ENERGY

Federal Energy Regulatory Commission

Sunshine Act Meeting

AGENCY: Federal Energy Regulatory Commission, DOE.

The following notice of meeting is published pursuant to section 3(a) of the government in the Sunshine Act (Pub. L. 94-409), 5 U.S.C. 552b:

DATE AND TIME: October 16, 2014, 10:00 a.m.

PLACE: Room 2C, 888 First Street NE., Washington, DC 20426.

STATUS: Open.

MATTERS TO BE CONSIDERED: Agenda. * NOTE—Items listed on the agenda may be deleted without further notice.

CONTACT PERSON FOR MORE INFORMATION: Kimberly D. Bose, Secretary Telephone (202) 502-8400. For a recorded message listing items, struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1009TH—Meeting
[Regular Meeting, October 16, 2014, 10:00 a.m.]
Item No. | Docket No. | Company
ADMINISTRATIVE
A-1 | AD02-1-000 | Agency Business Matters.
A-2 | AD02-7-000 | Customer Matters, Reliability, Security and Market Operations.
A-3 | AD05-9-000 | Energy Market and Reliability Assessment.
A-4 | AD14-8-000 | Winter 2013-2014 Operations and Market Performance Regional Transmission Organizations and Independent System Operators.
ELECTRIC
E-1 | ER13-366-001 | Southwest Power Pool, Inc.
| ER13-366-002
| ER13-366-003
| ER13-367-001
| ER13-75-002 | Public Service Company of Colorado.
| ER13-75-004
| ER13-100-001 | Kansas City Power & Light Company.
E-2 | EL14-12-000 | Association of Businesses Advocating Tariff Equity Coalition of MISO Transmission Customers. Illinois Industrial Energy Consumers. Indiana Industrial Energy Consumers, Inc. Minnesota Large Industrial Group. Wisconsin Industrial Energy Group v. Midcontinent Independent System Operator, Inc. ALLETE, Inc. Ameren Illinois Company. Ameren Missouri. Ameren Transmission Company of Illinois. American Transmission Company, LLC. Cleco Power, LLC. Duke Energy Business Services, LLC. Entergy Arkansas, Inc. Entergy Gulf States Louisiana, LLC. Entergy Louisiana, LLC. Entergy Mississippi, Inc. Entergy New Orleans, Inc. Entergy Texas, Inc. Indianapolis Power & Light Company. International Transmission Company. ITC Midwest, LLC. Michigan Electric Transmission Company, LLC. MidAmerican Energy Company. Montana-Dakota Utilities Co. Northern Indiana Public Service Company. Northern States Power Company—Minnesota. Northern States Power Company—Wisconsin. Otter Tail Power Company. Southern Indiana Gas & Electric Company.
E-3 | EL11-44-006 | Ibedrola Renewables, Inc., PacifiCorp.
| EL11-44-007 | NextEra Energy Resources, LLC. Invenergy Wind North America LLC. Horizon Wind Energy LLC v. Bonneville Power Administration.
E-4 | RM14-1-001 | Reliability Standard for Geomagnetic Disturbance Operations.
E-5 | ER14-2574-000 | California Independent System Operator Corporation.
E-6 | OMITTED
E-7 | OMITTED
E-8 | RR14-6-000 | North American Electric Reliability Corporation.
E-9 | EF14-5-000 | Bonneville Power Administration.
| EF14-5-001
E-10 | EL11-66-001 | Martha Coakley, Massachusetts Attorney General Connecticut Public Utilities Regulatory Authority Massachusetts Department of Public Utilities. New Hampshire Public Utilities Commission Connecticut Office of Consumer Counsel. Maine Office of the Public Advocate. George Jepsen, Connecticut Attorney General. New Hampshire Office of Consumer Advocate. Rhode Island Division of Public Utilities and Carriers. Vermont Department of Public Service. Massachusetts Municipal Wholesale Electric Company. Associated Industries of Massachusetts. The Energy Consortium. Power Options, Inc. The Industrial Energy Consumer Group v. Bangor Hydro-Electric Company. Central Maine Power Company. New England Power Company d/b/a National Grid. New Hampshire Transmission, LLC. d/b/a NextEra. NSTAR Electric and Gas Corporation. Northeast Utilities Service Company. The United Illuminating Company. Unitil Energy Systems, Inc. and Fitchburg Gas and Electric Light Co. Vermont Transco, LLC.
E-11 | OMITTED
E-12 | OMITTED
E-13 | ER12-959-000 | Southwest Power Pool, Inc.
| ER12-959-005
GAS
G-1 | RP13-673-001 | B-R Pipeline Company.
| RP14-718-000 | Alliance Pipeline L.P.
| RP14-747-000 | Algonquin Gas Transmission, LLC.
| RP14-748-000 | Big Sandy Pipeline, LLC.
| RP14-749-000 | Steckman Ridge, LP.
| RP14-750-000 | Texas Eastern Transmission, LP.
| RP14-751-000 | Gulfstream Natural Gas System, LLC.
| RP14-752-000 | Bobcat Gas Storage.
| RP14-753-000 | Egan Hub Storage, LLC.
| RP14-754-000 | East Tennessee Natural Gas, LLC.
| RP14-755-000 | Saltville Gas Storage Company, LLC.
| RP14-756-000 | Ozark Gas Transmission, LLC.
| RP14-757-000 | Maritimes & Northeast Pipeline, LLC.
| RP14-758-000 | Southeast Supply Header, LLC.
| RP14-842-000 | PGPipeline LLC.
| RP14-851-000 | ANR Pipeline Company.
| RP14-852-000 | ANR Storage Company.
| RP14-853-000 | Bison Pipeline LLC.
| RP14-854-000 | Great Lakes Gas Transmission Limited Partnership.
| RP14-855-000 | Blue Lake Gas Storage Company.
| RP14-856-000 | Gas Transmission Northwest LLC.
| RP14-857-000 | North Baja Pipeline, LLC.
| RP14-858-000 | Northern Border Pipeline Company.
| RP14-859-000 | Portland Natural Gas Transmission System.
| RP14-860-000 | TC Offshore, LLC.
| RP14-861-000 | Tuscarora Gas Transmission Company.
| RP14-863-000 | Columbia Gas Transmission, LLC.
| RP14-864-000 | Columbia Gulf Transmission, LLC.
| RP14-865-000 | Hardy Storage Company, LLC.
| RP14-866-000 | Crossroads Pipeline Company.
| RP14-867-000 | Central Kentucky Transmission Company.
| RP14-868-000 | Southern Star Central Gas Pipeline, Inc.
| RP14-872-000 | Granite State Gas Transmission, Inc.
| RP14-872-001
| RP14-873-000 | Panhandle Eastern Pipe Line Company, LP.
| RP14-874-000 | Trunkline Gas Company, LLC.
| RP14-875-000 | Florida Gas Transmission Company, LLC.
| RP14-876-000 | Leaf River Energy Center LLC.
| RP14-877-000 | Northwest Pipeline LLC.
| RP14-878-000 | Arlington Storage Company, LLC.
| RP14-879-000 | Tres Palacios Gas Storage LLC.
| RP14-880-000 | Golden Triangle Storage, Inc.
| RP14-881-000 | Vector Pipeline L.P.
| RP14-882-000 | Carolina Gas Transmission Corporation.
| RP14-883-000 | Trailblazer Pipeline Company LLC.
| RP14-885-000 | Rockies Express Pipeline LLC.
| RP14-886-000 | Equitrans, L.P.
| RP14-887-000 | Rager Mountain Storage Company LLC.
| RP14-888-000 | Nautilus Pipeline Company, LLC.
| RP14-889-000 | Garden Banks Gas Pipeline, LLC.
| RP14-890-000 | Mississippi Canyon Gas Pipeline, LLC.
| RP14-891-000 | Transwestern Pipeline Company, LLC.
| RP14-892-000 | Fayetteville Express Pipeline LLC.
| RP14-893-000 | Stingray Pipeline Company, LLC.
| RP14-894-000 | ETC Tiger Pipeline, LLC.
| RP14-895-000 | Central New York Oil And Gas Company, LLC.
| RP14-896-000 | Tallgrass Interstate Gas Transmission, LLC.
| RP14-897-000 | National Grid LNG, LLC.
| RP14-898-000 | Cameron Interstate Pipeline, LLC.
| RP14-899-000 | Mississippi Hub, LLC.
| RP14-900-000 | LA Storage, LLC.
| RP14-901-000 | Eastern Shore Natural Gas Company.
| RP14-903-000 | SG Resources Mississippi, LLC.
| RP14-904-000 | Pine Prairie Energy Center, LLC.
| RP14-905-000 | Bluewater Gas Storage, LLC.
| RP14-906-000 | Honeoye Storage Corporation.
| RP14-1051-000
| RP14-907-000 | Questar Pipeline Company.
| RP14-908-000 | Gulf Crossing Pipeline Company, LLC.
| RP14-909-000 | Gulf South Pipeline Company, LP.
| RP14-910-000 | Texas Gas Transmission, LLC.
| RP14-911-000 | Petal Gas Storage, LLC.
| RP14-912-000 | Boardwalk Storage Company, LLC.
| RP14-913-000 | Southwest Gas Storage Company.
| RP14-914-000 | Sea Robin Pipeline Company, LLC.
| RP14-915-000 | Trunkline LNG Company, LLC.
| RP14-916-000 | Clear Creek Storage Company, LLC.
| RP14-917-000 | Rendezvous Pipeline Company, LLC.
| RP14-919-000 | Midcontinent Express Pipeline LLC.
| RP14-920-000 | Kinder Morgan Louisiana Pipeline LLC.
| RP14-921-000 | Kinder Morgan Illinois Pipeline LLC.
| RP14-922-000 | Horizon Pipeline Company, LLC.
| RP14-923-000 | Natural Gas Pipeline Company of America LLC.
| RP14-924-000 | Cheyenne Plains Gas Pipeline Company, LLC.
| RP14-925-000 | Ruby Pipeline, LLC.
| RP14-926-000 | Colorado Interstate Gas Company, LLC.
| RP14-927-000 | Wyoming Interstate Company, LLC.
| RP14-928-000 | Young Gas Storage Company, Ltd.
| RP14-929-000 | Guardian Pipeline, LLC.
| RP14-931-000 | Midwestern Gas Transmission Company.
| RP14-932-000 | OkTex Pipeline Company, LLC.
| RP14-933-000 | Viking Gas Transmission Company.
| RP14-934-000 | Questar Southern Trails Pipeline Company.
| RP14-935-000 | Questar Overthrust Pipeline Company.
| RP14-936-000 | White River Hub, LLC.
| RP14-937-000 | Portland General Electric Company.
| RP14-938-000 | WestGas InterState, Inc.
| RP14-940-000 | Venice Gathering System, LLC.
| RP14-942-000 | Sabine Pipe Line LLC.
| RP14-943-000 | Dauphin Island Gathering Partners.
| RP14-944-000 | Cimarron River Pipeline, LLC.
| RP14-945-000 | WBI Energy Transmission, Inc.
| RP14-946-000 | Southern Natural Gas Company, LLC.
| RP14-947-000 | Trans-Union Interstate Pipeline, L.P.
| RP14-948-000 | Southern LNG Company, LLC.
| RP14-949-000 | Elba Express Company, LLC.
| RP14-951-000 | Discovery Gas Transmission LLC.
| RP14-952-000 | Destin Pipeline Company, LLC.
| RP14-953-000 | MarkWest New Mexico, LLC.
| RP14-954-000 | MarkWest Pioneer, LLC.
| RP14-955-000 | NGO Transmission, Inc.
| RP14-956-000 | Ryckman Creek Resources, LLC.
| RP14-957-000 | KO Transmission Company.
| RP14-958-000 | Enable Mississippi River Transmission, LLC.
| RP14-959-000 | Black Marlin Pipeline Company.
| RP14-960-000 | Enable Gas Transmission, LLC.
| RP14-961-000 | USG Pipeline Company, LLC.
| RP14-962-000 | Pine Needle LNG Company, LLC.
| RP14-963-000 | Transcontinental Gas Pipe Line Company, LLC.
| RP14-964-000 | Gulf Shore Energy Partners, LP.
| RP14-964-001
| RP14-964-002
| RP14-965-000 | Kinetica Energy Express, LLC.
| RP14-966-000 | Panther Interstate Pipeline Energy, LLC.
| RP14-967-000 | American Midstream (Ala Tenn), LLC.
| RP14-968-000 | Tennessee Gas Pipeline Company, LLC.
| RP14-969-000 | Golden Pass Pipeline LLC.
| RP14-970-000 | High Point Gas Transmission, LLC.
| RP14-971-000 | Gulf States Transmission LLC.
| RP14-972-000 | Kern River Gas Transmission Company.
| RP14-974-000 | KPC Pipeline, LLC.
| RP14-973-000 | American Midstream (Midla) LLC.
| RP14-975-000 | Northern Natural Gas Company.
| RP14-976-000 | MoGas Pipeline LLC.
| RP14-977-000 | East Cheyenne Gas Storage, LLC.
| RP14-978-000 | Cheniere Creole Trail Pipeline, L.P.
| RP14-979-000 | Dominion Transmission, Inc.
| RP14-981-000 | Dominion Cove Point LNG, LP.
| RP14-982-000 | National Fuel Gas Supply Corporation.
| RP14-983-000 | Empire Pipeline, Inc.
| RP14-984-000 | El Paso Natural Gas Company, LLC.
| RP14-985-000 | Mojave Pipeline Company, LLC.
| RP14-986-000 | TransColorado Gas Transmission Company LLC.
| RP14-987-000 | Iroquois Gas Transmission System, L.P.
| RP14-988-000 | Paiute Pipeline Company.
| RP14-989-000 | Millennium Pipeline Company, LLC.
| RP14-1001-000 | Caledonia Energy Partners, LLC.
| RP14-1002-000 | Freebird Gas Storage, LLC.
| RP14-1005-000 | High Island Offshore System, LLC.
| RP14-1056-000 | MIGC LLC.
| RP14-1077-000 | Chandeleur Pipe Line, LLC.
| RP14-1114-000 | Energy West Development, Inc.
| RP14-1124-000 | Wyckoff Gas Storage Company, LLC.
| RP14-1133-000 | Total Peaking Services, LLC.
| RP14-1165-000 | Cadeville Gas Storage LLC.
| RP14-1166-000 | Perryville Gas Storage LLC.
| RP14-1169-000 | Monroe Gas Storage Company, LLC.
| RP14-1183-000 | WTG Hugoton, LP.
| RP14-1186-000 | UGI Storage Company.
| RP14-1187-000 | Western Gas Interstate Company.
| RP14-1189-000 | UGI LNG Inc.
G-2 | RP06-569-008 | Transcontinental Gas Pipe Line Corporation.
| RP07-376-005
| (Consolidated)
HYDRO
H-1 | P-14612-000 | New Summit Hydro, LLC.
H-2 | P-12790-002 | Andrew Peklo III.
H-3 | P-2082-061 | PacifiCorp.
H-4 | P-2687-167 | Pacific Gas and Electric Company.
H-5 | P-12747-004 | San Diego County Water Authority.
H-6 | P-2101-095 | Sacramento Municipal Utility District.
H-7 | P-2114-270 | Public Utility District No. 2 of Grant County, Washington.
H-8 | P-11910-002 | AG Hydro, LLC.
H-9 | P-7019-061 | Eastern Hydroelectric Corporation.
CERTIFICATES
C-1 | OMITTED

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Issued: October 9, 2014.
Kimberly D. Bose,
Secretary.

[FR Doc. 2014-24553 Filed 10-10-14; 11:15 am]

BILLING CODE 6717-01-P